DEPARTMENT OF HOUSING AND URBAN DEVELOPMENT

[Docket No. FR-4557-N-27]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest of HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Brian K. Polly, Assistant Commissioner, General Services Administration, Office of Property Disposal, 18th and F Streets, NW, Washington, DC 20405; (202) 501-0052; ENERGY: Mr. Tom Knox, Department of Energy, Office of Contract & Resource Management, MA-52, Washington, DC 20585; (202) 586-8715; NAVY: Mr. Charles C. Cocks, Director, Department of the Navy, Real Estate Policy Division, Naval Facilities Engineering Command, Washington Navy Yard, 1322 Patterson Ave., SE., Suite 1000, Washington, DC 20374-5065; (202) 685-9200; (These are not toll free numbers).

Dated: June 29, 2000.
Fred Karnas, Jr.,
Deputy Assistant Secretary for Special Needs Assistance Programs.

TITLE V, FEDERAL SURPLUS PROPERTY PROGRAM FEDERAL REGISTER REPORT FOR 7/7/00

Suitable/Available Properties

Buildings (by State)

Alabama

Residence 1223

204 Akin Drive

Tuskegee Co: Macon AL 36083-

Landholding Agency: GSA

Property Number: 54200020023

Status: Excess

Comment: 1375 sq. ft., brick veneer, most recent use—residential

GSA Number: 4-A-AL-768.

West Virginia

Moundsville Federal Bldg.

7th Street

Moundsville Co: Marshall WV 26041-

Landholding Agency: GSA

Property Number: 54200020024

Status: Excess

Comment: 9674 sq. ft., good condition, presence of asbestos, most recent use—office space

GSA Number: 4-G-WV-535.

Land (by State)

Arizona

0.322 acres

Madison Street Property

Yuma Co: AZ 00000-

Landholding Agency: GSA

Property Number: 54200020025

Status: Excess

Comment: 14,026 sq. ft., irregular in shape, most recent use—former railroad right-of-way

GSA Number: 9-I-AZ-814.

Unsuitable Properties

Buildings (by State)

California

Bldg. 1442

Marine Corps Base

Camp Pendleton Co: CA 92055-

Landholding Agency: Navy

Property Number: 77200020106

Status: Unutilized

Reason: Extensive deterioration.

Bldg. 1651

Marine Corps Base

Camp Pendleton Co: CA 92055-

Landholding Agency: Navy

Property Number: 77200020107

Status: Unutilized

Reason: Extensive deterioration.

Bldg. 13162

Marine Corps Base

Camp Pendleton Co: CA 92055-

Landholding Agency: Navy

Property Number: 77200020108

Status: Unutilized

Reason: Extensive deterioration.

Bldg. 14100

Marine Corps Base

Camp Pendleton Co: CA 92055-

Landholding Agency: Navy

Property Number: 77200020109

Status: Unutilized

Reason: Extensive deterioration.

Bldg. 25131

Marine Corps Base

Camp Pendleton Co: CA 92055-

Landholding Agency: Navy

Property Number: 77200020110

Status: Unutilized

Reason: Extensive deterioration.

Florida

Bldg. 62

NAS Jacksonville

Altoona Co: Marion FL 32702-

Landholding Agency: Navy

Property Number : 77200020111

Status: Unutilized

Reasons: Secured Area; Extensive deterioration.

Bldg. 94

NAS Jacksonville

Altoona Co: Marion FL 32702-

Landholding Agency: Navy

Property Number: 77200020112

Status: Unutilized

Reasons: Secured Area; Extensive deterioration.

New Mexico

Bldg. 22, TA-33

Los Alamos National Lab

Los Alamos Co: NM 87545-

Landholding Agency: Energy

Property Number: 41200020022

Status: Unutilized

Reasons: Secured Area; Extensive deterioration.

Bldg. 23, TA-49

Los Alamos National Lab

Los Alamos Co: NM 87545-

Landholding Agency: Energy

Property Number: 41200020023

Status: Unutilized

Reason: Secured Area.

Bldg. 37, TA-53

Los Alamos National Lab

Los Alamos Co: NM 87545-

Landholding Agency: Energy

Property Number: 41200020024

Status: Unutilized

Reason: Secured Area.

Bldg. 121, TA-49

Los Alamos National Lab

Los Alamos Co: NM 87545-

Landholding Agency: Energy

Property Number: 41200020025

Status: Unutilized

Reason: Secured Area.

Ohio

Bldg. 22B

Fernald Env. Mgmt. Proj.

Hamilton Co: OH 45013-9402

Landholding Agency: Energy

Property Number: 41200020026

Status: Unutilized

Reasons: Within 2000 ft. of flammable or explosive material; Secured Area.

Bldg. 28A

Fernald Env. Mgmt. Proj.

Hamilton Co: OH 45013-9402

Landholding Agency: Energy

Property Number: 41200020027

Status: Unutilized

Reasons: Within 2000 ft. of flammable or explosive material; Secured Area.

Bldg. 28B

Fernald Env. Mgmt. Proj.

Hamilton Co: OH 45013-9402

Landholding Agency: Energy

Property Number: 41200020028

Status: Unutilized

Reasons: Within 2000 ft. of flammable or explosive material; Secured Area.

South Carolina

4 Industrial Bldgs.

Naval Weapons Station

Charleston

88, 92, 94, 354

Goose Creek Co: Berkeley SC 29445-

Landholding Agency: Navy

Property Number: 77200020113

Status: Unutilized

Reasons: Within 2000 ft. of flammable or explosive material; Secured Area.

4 Heat Plant Bldgs.

Naval Weapons Station

Charleston

89, 95, 355, 438

Goose Creek Co: Berkeley SC 29445-

Landholding Agency: Navy

Property Number: 77200020114

Status: Unutilized

Reasons: Within 2000 ft. of flammable or explosive material; Secured Area.

8 Security Bldgs.

Naval Weapons Station

Charleston

313, 859, 860, 897, 918, 1654, 1655, 3217

Goose Creek Co: Berkeley SC 29445-

Landholding Agency: Navy

Property Number: 77200020115

Status: Unutilized

Reasons: Within 2000 ft. of flammable or explosive material; Secured Area.

8 Storage Bldgs.

Naval Weapons Station

Charleston

307, 353, 799, 831, 861, 933, 984, 994

Goose Creek Co: Berkeley SC 29445-

Landholding Agency: Navy

Property Number: 77200020116

Status: Unutilized

Reasons: Within 2000 ft. of flammable or explosive material; Secured Area.

6 Bldgs.

Naval Weapons Station

Charleston

183, 855, 868, 968, 3238, 408

Goose Creek Co: Berkeley SC 29445-

Landholding Agency: Navy

Property Number: 77200020117

Status: Unutilized

Reasons: Within 2000 ft. of flammable or explosive material; Secured Area.

[FR Doc. 00-16961 Filed 7-6-00; 8:45 am]

BILLING CODE 4210-29-M